DEPARTMENT OF COMMERCE

National Oceanic and Atmospheric Administration

50 CFR Part 622

[Docket No. 160906822-7547-02]

RIN 0648-BG33

Fisheries of the Caribbean, Gulf of Mexico, and South Atlantic; Snapper-Grouper Fishery of the South Atlantic Region; Amendment 37; Correction

AGENCY: National Marine Fisheries Service (NMFS), National Oceanic and Atmospheric Administration (NOAA), Commerce.

ACTION: Final rule; correction.

SUMMARY: NMFS published a final rule on July 25, 2017, to implement management measures described in Amendment 37 to the Fishery Management Plan for the Snapper-Grouper Fishery of the South Atlantic Region (Amendment 37). This notification corrects the coordinate contained in footnote 2 to Table 1 in the regulatory text to be consistent with the same management boundary and coordinate described in other regulations applicable to the snapper-grouper fishery.

DATES: This correction notice is effective on August 24, 2017.

FOR FURTHER INFORMATION CONTACT: Adam Bailey, NMFS Southeast Regional Office, telephone: 727-824-5305, email: adam.bailey@noaa.gov.

SUPPLEMENTARY INFORMATION: On July 25, 2017, NMFS published a final rule in the Federal Register (82 FR 34584) to implement management measures in Amendment 37. The final rule modifies the fishery management unit boundaries for hogfish in the South Atlantic by establishing two hogfish stocks, a Georgia through North Carolina (GA/NC) stock and a Florida Keys/East Florida (FLK/EFL) stock; establishes a rebuilding plan for the FLK/EFL hogfish stock; specifies fishing levels and accountability measures (AMs), and modifies or establishes management measures for the GA/NC and FLK/EFL stocks of hogfish. The purpose of the final rule is to manage hogfish using the best scientific information available while ending overfishing and rebuilding the FLK/EFL hogfish stock. The final rule is effective August 24, 2017.

Need for Correction

As explained in the final rule for Amendment 37, NMFS corrected an error with the footnotes in Table 1 of § 622.1. After the final rule published, NMFS discovered an additional error in one of those footnotes addressed in the final rule for Amendment 37. NMFS determined that a coordinate describing a management boundary for black sea bass and scup in footnote 2 was inaccurate and inconsistent with the same management boundary referenced in subpart I of part 622 of the Code of Federal Regulations. NMFS publishes this notification to correct that mistake. The coordinate in footnote 2 is intended to be “35°15.19′”, not “35°15.9′”.

Corrections

In the Federal Register on July 25, 2017, in FR Doc. 2017-15588:

1. On p. 34594, instruction 2 is corrected to read as follows:

“2. In § 622.1, revise the Table 1 entry for “FMP for the Snapper-Grouper Fishery of the South Atlantic Region,” revise the entry for footnote 2, and add footnote 8 to Table 1 to read as follows:”

2. On page 34594, footnote 2 in Table 1 to § 622.1 is corrected to read as follows:

“ ² Black sea bass and scup are not managed by the FMP or regulated by this part north of 35°15.19′ N. lat., the latitude of Cape Hatteras Light, NC.”

Authority: 16 U.S.C. 1801 et seq.

Dated: August 21, 2017.
Chris Oliver,
Assistant Administrator for Fisheries, National Marine Fisheries Service.

[FR Doc. 2017-17970 Filed 8-23-17; 8:45 am]

BILLING CODE 3510-22-P